Title 3—

The President

Proclamation 8354 of April 1, 2009

National Cancer Control Month, 2009

By the President of the United States of America

A Proclamation

We have achieved remarkable progress in the fight against cancer. Miracles in medical research have helped us understand how to prevent, detect, and treat cancer more effectively, and Americans are now more aware of how to protect themselves from this disease.

Despite this progress, cancer continues to kill more Americans than any other malady but heart disease. Marking National Cancer Control Month, we recommit to the battle against cancer and emphasize the promise of medical research and the healthy steps Americans can take to protect themselves.

To gain new ground in cancer prevention, detection, and treatment, my Administration will continue to press for increased support for research at the National Institutes of Health, the National Cancer Institute, the Centers for Disease Control and Prevention, and academic and other institutions. The Federal Government plays an indispensable role in investing in this research, which will save and improve lives for generations to come.

As researchers work daily to better understand this disease, Americans can take steps to decrease their risk of developing cancer. Individuals of all ages should seek regular and appropriate check-ups. These check-ups should include screening, such as mammograms, the Pap test, and tests for colorectal cancer, all of which can help detect cancer during its early stages.

Healthy personal habits can also reduce the risk of cancer. Smoking accounts for thousands of cancer deaths every year, and quitting—even after many years—can greatly reduce the risk of cancer. Physical inactivity and obesity may cause a substantial proportion of colon, breast, endometrial, kidney, and esophageal cancers in the United States, so maintaining physical activity and a healthy diet can help prevent cancer, among other diseases. Finally, moderating alcohol intake and sun exposure can help protect Americans.

Too many American families have been touched by cancer. As we observe National Cancer Control Month, I call upon all courageous cancer patients and survivors, health care providers, researchers, advocates, and others involved in this struggle to work together in support of our Nation's goal to control, and ultimately defeat, this devastating disease.

NOW, THEREFORE, I, BARACK OBAMA, President of the United States of America, by virtue of the authority vested in me by the Constitution and laws of the United States, do hereby proclaim April 2009 as National Cancer Control Month. I encourage citizens, medical institutions, government and social service agencies, businesses, nonprofit organizations, and other interested groups to join in activities that help control cancer.

IN WITNESS WHEREOF, I have hereunto set my hand this first day of April, in the year of our Lord two thousand nine, and of the Independence of the United States of America the two hundred and thirty-third.

[FR Doc. E9-7923

Filed 4-3-09; 11:15 am]

Billing code 3195-W9-P